DEPARTMENT OF THE INTERIOR

Bureau of Land Management

[LLCA 942000 L57000000 BX0000]

Filing of Plats of Survey: California

AGENCY: Bureau of Land Management, Interior.

ACTION: Notice.

SUMMARY: The plats of survey of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California, 95825.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various federal agencies; the Bureau of Land Management, Bureau of Indian Affairs or Bureau of Reclamation. The lands surveyed are:

Humboldt Meridian, California

T. 4 S., R. 1 W., dependent resurvey and survey accepted September 26, 2012.

Mount Diablo Meridian, California

T. 41 N., R. 10 E., dependent resurvey and subdivision of sections accepted September 19, 2012.

T. 18 N., R. 7 W., protraction diagram for unsurveyed area accepted September 19, 2012.

T. 7 S., R. 32 E., dependent resurvey and metes-and-bounds survey accepted September 27, 2012.

T. 10 N., R 10 E., dependent resurvey, subdivision of section, and metes-and-bounds survey accepted September 27, 2012.

Authority: 43 U.S.C., Chapter 3.

Dated: October 10, 2012,
Lance J. Bishop,
Chief Cadastral Surveyor, California.

[FR Doc. 2012-25950 Filed 10-19-12; 8:45 am]

BILLING CODE 4310-40-P